DEPARTMENT OF HEALTH AND HUMAN SERVICES

Office of the National Coordinator for Health Information Technology; American Health Information Community Biosurveillance Data Steering Group Meeting

ACTION: Announcement of meeting.

SUMMARY: This notice announces the sixth meeting of the American Health Information Community Biosurveillance Data Steering Group in accordance with the Federal Advisory Committee Act (Pub. L. 92-463, 5 U.S.C., App.).

DATES: September 14, 2006 from 1:30 p.m. to 4:30 p.m.

ADDRESSES: Mary C. Switzer Building (330 C Street, SW., Washington, DC 20201), Conference Room 4090 (you will need a photo ID to enter a Federal building).

FOR FURTHER INFORMATION CONTACT: http://www.hhs.gov/healthit/ahic/bio_main.html.

SUPPLEMENTARY INFORMATION: The meeting will be available via Internet access. Go to http://www.hhs.gov/healthit/ahic/bio_instruct.html for additional information on the meeting.

Dated: August 25, 2006.
Judith Sparrow,
Director, American Health Information Community, Office of Programs and Coordination, Office of the National Coordinator for Health Information Technology.

[FR Doc. 06-7380 Filed 8-31-06; 8:45 am]

BILLING CODE 4150-24-M